DEPARTMENT OF STATE

[Public Notice 12676]

30-Day Notice of Proposed Information Collection: Overseas Schools Grant Status Report

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to March 28, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Mark Ulfers, Department of State, Office of Overseas Schools, A/OPR/OS, Room H328, SA-1, Washington, DC 20522-0132, who may be reached on 202-261-8200 or at UlfersME@state.gov.

SUPPLEMENTARY INFORMATION:

• Title of Information Collection: Overseas Schools Grant Applications.

• OMB Control Number: 1405-0036.

• Type of Request: Extension of a currently approved collection.

• Originating Office: Bureau of Administration, A/GO/PST/OS.

• Form Number: None; MyGrants application.

• Respondents: Overseas Schools applying for a grant from the Department of State.

• Estimated Number of Respondents: 193.

• Estimated Number of Responses: 193.

• Average Time per Response: 90 minutes.

• Total Estimated Burden Time: 4.8 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The mission of Office of Overseas Schools of the Department of State (A/OPR/OS) is responsible for determining that adequate educational opportunities exist at the elementary and secondary level for dependents of American citizens carrying out the programs of the U.S. Government abroad, and for assisting American-sponsored overseas schools to embody the best educational practices employed in the United States, and promote mutual understanding among peoples through education.

The information submitted by assisted schools through the MyGrants application, enables the technical and professional staff of A/OPR/OS to monitor obligations, expenditures and reimbursements of the grant funds and ensure the grantee is in compliance with the terms of the grant. In addition, A/OPR/OS plans to use information collected via the MyGrants application to ensure accuracy of the information published on its website, namely the Fact Sheets and Special Needs Profiles.

Availability of adequate educational opportunities for dependents of Government personnel is essential to the task of recruiting, placing, and retaining Foreign Service personnel at overseas posts.

Response to Public Comments

There were no public comments submitted in response to the 60-day Notice.

Methodology

Information is collected via electronic and paper submission.

Mark J. Biedlingmaier,
Senior Bureau Official for the Bureau of Administration, Department of State.

[FR Doc. 2025-03092 Filed 2-25-25; 8:45 am]

BILLING CODE 4710-24-P